DEPARTMENT OF THE INTERIOR

Bureau of Land Management

[PO #4820000251]

Filing of Plats of Survey; Nevada

AGENCY: Bureau of Land Management, Interior.

ACTION: Notice of official filing.

SUMMARY: The purpose of this notice is to inform the public and interested State and local government officials of the filing of Plats of Survey in Nevada.

DATES: Filing is applicable at 10 a.m. Pacific Time on the dates indicated below.

FOR FURTHER INFORMATION CONTACT: Clarence D. Strickland, Chief Cadastral Surveyor for Nevada, Bureau of Land Management (BLM), Nevada State Office, 1340 Financial Blvd., Reno, NV 89502-7147, phone: 775-861-6490. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

1. The Plat of Survey of the following described land was officially filed at the

BLM Nevada State Office, Reno, Nevada, on September 24, 2024.

The plat, in 2 sheets, representing the dependent resurvey of a portion of the east boundary, Township 16 North, Range 26 East; a portion of the west boundary, Township 16 North, Range 28 East; portions of the south boundary, Township 17 North, Range 27 East; and a portion of the subdivisional lines. Township 16 North, Range 27 East, Mount Diablo Meridian, Nevada, under Group No. 1005, was accepted September 20, 2024. This survey was executed to meet certain administrative needs of the Bureau of Land Management.

2. The Plat of Survey of the following described lands was officially filed at the BLM Nevada State Office, Reno, Nevada, on September 24, 2024.

The dependent resurvey of a portion of the east boundary was executed concurrently under Group No. 1005.

The plat, in 1 sheet, representing the dependent resurvey of a portion of the north boundary and a portion of the subdivisional lines and the subdivision of sections 1 and 2, Township 16 North, Range 26 East, Mount Diablo Meridian, Nevada, under Group No. 1006, was accepted September 20, 2024. This survey was executed to meet certain administrative needs of the Bureau of Land Management.

3. The Plat of Survey of the following described lands was officially filed at the BLM Nevada State Office, Reno, Nevada, on September 20, 2024.

The plat, in 1 sheet, representing the dependent resurvey of a portion of the west boundary and a portion of the subdivisional lines, Township 18 North, Range 27 East, Mount Diablo Meridian, Nevada, under Group No. 1007, was accepted September 20, 2024. This survey was executed to meet certain administrative needs of the Bureau of Land Management.

4. The Plat of Survey of the following described lands was officially filed at the BLM Nevada State Office, Reno, Nevada, on September 24, 2024.

The dependent resurvey of a portion of the north boundary of Township 16 North, Range 26 East was executed concurrently under Group No. 1006.

The plat, in 3 sheets, representing the dependent resurvey of a portion of the south boundary of Township 18 North, Range 26 East and a portion of the subdivisional lines and the survey of the east boundary, a portion of the subdivisional lines and the subdivision of sections 11, 14, 23, 26 and 35. Township 17 North,, Range 26 East, Mount Diablo Meridian, Nevada, under Group No. 1008, was accepted September 20, 2024. This survey was executed to meet certain administrative needs of the Bureau of Land Management.

The surveys and supplemental plats listed above are now the basic record for describing the lands for all authorized purposes. These records have been placed in the open files in the BLM Nevada State Office and are available to the public as a matter of information.

(Authority: 43 U.S.C. chapter 3)

Clarence Strickland,
Chief Cadastral Surveyor for Nevada.

[FR Doc. 2025-00130 Filed 1-7-25; 8:45 am]

BILLING CODE 4331-21-P